POSTAL SERVICE

39 CFR Part 20

Undeliverable Items

AGENCY: Postal Service.

ACTION: Final rule.

SUMMARY: The Postal Service™ has implemented new standards for returned undeliverable-as-addressed items that were posted abroad with a United States return address. When this occurs, the Postal Service provides the return service but currently receives no payment for the services rendered. This final rule implements collection of a fee for returned items.

DATES: Effective Date: January 14, 2008.

FOR FURTHER INFORMATION CONTACT: Obataiye B. Akinwole, 703-292-5260, Bruce Marsh, 703-292-3570.

SUPPLEMENTARY INFORMATION: Article RL 147 of the Letter Post Regulations of the Universal Postal Union (UPU), “Undeliverable Items,” allows all posts to collect handling charges for undeliverable-as-addressed pieces posted abroad by customers residing in their territories. In order to recover costs associated with handling these pieces, the Postal Service will collect the applicable First-Class Mail International postage for each returned item.

List of Subjects in 39 CFR Part 20

Foreign relations, International postal services.

Effective the date of this rulemaking the USPS formally adopts the UPU provisions into the Mailing Standards of the United States Postal Service, International Mail Manual (IMM®), incorporated by reference in the Code of Federal Regulations. See 39 CFR 20.1.

PART 20—[AMENDED]

1. The authority citation for 39 CFR part 20 continues to read as follows:

Authority: 5 U.S.C. 552(a); 39 U.S.C. 401, 404, 407, 408.

2. Revise the Mailing Standards of the United States Postal Service, International Mail Manual (IMM) as follows:

* * * * *

7 Treatment of Inbound Mail

* * * * *

780 Items Mailed Abroad by or on Behalf of Senders in the United States

[Revise the heading of 781 as follows:]

781 Payment Required

[Add new 781.1 using the current text of 781 as follows:]

781.1 Postage Payment Required

Payment of U.S. Postage is required to secure delivery of mail when the mailing is by or on behalf of a person or firm that is a resident of the United States and the foreign postage rate applied to such items is lower than the comparable U.S. domestic rate.

[Add new 781.2 as follows:]

781.2 Handling Charges

Undeliverable-as-addressed mail returned to the sender for which outbound postage was not paid to the USPS is subject to the payment of handling charges. On delivery to the sender, the sender may be charged the First-Class Mail International rate for the weight and shape of the returned piece.

* * * * *

Neva R. Watson,
Attorney, Legislative.

[FR Doc. E8-392 Filed 1-11-08; 8:45 am]

BILLING CODE 7710-12-P